FEDERAL RESERVE SYSTEM

Change in Bank Control Notices; Formations of, Acquisitions by, and Mergers of Bank Holding Companies; Correction

This notice corrects a notice (FR Doc. 2013-14635) published on page 37222 of the issue for Thursday, June 20, 2013.

Under the Federal Reserve Bank of Atlanta heading, the entry for Overton Financial Services, Inc., Livingston, Tennessee, is revised to read as follows:

A. Federal Reserve Bank of Atlanta (Chapelle Davis, Assistant Vice President) 1000 Peachtree Street NE., Atlanta, Georgia 30309:

1. The Amanda Marie Rios 2012 Irrevocable Trust, Paul Roberts, Trustee; The Amy Beth Windle Oakley 2012 Irrevocable Trust, Paul Roberts, Trustee; The John David Copeland 2012 Irrevocable Trust, Paul Roberts, Trustee; The Mark Edward Copeland 2012 Irrevocable Trust, Paul Roberts, Trustee; and The Thomas Alfred Windle 2012 Irrevocable Trust, Paul Roberts, Trustee, all of Livingston, Tennessee; to join the currently approved control group of The Jack Windle Irrevocable Life Insurance Trust, Joyce D. Windle, John D. Copeland, and Thomas A. Windle, as Trustees; The Credit Shelter Trust under the Last Will and Testament of Jack Allen Windle, Joyce D. Windle, John D. Copeland, and Thomas A. Windle, as Trustees, and The Tennessee Qualified Terminable Interest Trust, Joyce D. Windle, John D. Copeland, and Thomas A. Windle, as Trustees, all of Livingston, Tennessee, for Overton Financial Services, Inc., and its subsidiary, Union Bank & Trust Company, both in Livingston, Tennessee. Collectively, the new control group controls 100 percent of the voting shares of Overton Financial Services, Inc., and Union Bank & Trust Company.

Comments on this application must be received by July 5, 2013.

Board of Governors of the Federal Reserve System, June 20, 2013.
Margaret McCloskey Shanks,
Deputy Secretary of the Board.

[FR Doc. 2013-15120 Filed 6-24-13; 8:45 am]

BILLING CODE 6210-01-P